DEPARTMENT OF THE TREASURY

Internal Revenue Service

Recruitment Notice for the Taxpayer Advocacy Panel

AGENCY: Internal Revenue Service (IRS), Treasury.

ACTION: Notice.

SUMMARY: Notice of Open Season for Recruitment of IRS Taxpayer Advocacy Panel (TAP) Members.

DATES: March 9, 2015 through April 19, 2015.

FOR FURTHER INFORMATION CONTACT: Lisa Billups at 214-413-6523 (not a toll-free call).

SUPPLEMENTARY INFORMATION: Notice is hereby given that the Department of the Treasury and the Internal Revenue Service (IRS) are inviting individuals to help improve the nation's tax agency by applying to be members of the Taxpayer Advocacy Panel (TAP). The mission of the TAP is to listen to taxpayers, identify issues that affect taxpayers, and make suggestions for improving IRS service and customer satisfaction. The TAP serves as an advisory body to the Secretary of the Treasury, the Commissioner of Internal Revenue, and the National Taxpayer Advocate. TAP members will participate in subcommittees that channel their feedback to the IRS through the Panel's parent committee.

The IRS is seeking applicants who have an interest in good government, a personal commitment to volunteer approximately 200 to 300 hours a year, and a desire to help improve IRS customer service. To the extent possible, the TAP Director will ensure that TAP membership is balanced and represents a cross-section of the taxpaying public with at least one member from each state, the District of Columbia and Puerto Rico in addition to one member representing international taxpayers. Potential candidates must be U.S. citizens and must pass an IRS tax compliance check and a Federal Bureau of Investigation background investigation. Federally-registered lobbyists cannot be members of the TAP.

TAP members are a diverse group of citizens who represent the interests of taxpayers from their respective geographic locations by providing feedback from a taxpayer's perspective on ways to improve IRS customer service and administration of the federal tax system, and by identifying grassroots taxpayer issues. Members should have good communication skills and be able to speak to taxpayers about the TAP and TAP activities, while clearly distinguishing between TAP positions and their personal viewpoints.

Interested applicants should visit the TAP Web site at www.improveirs.org for more information about the TAP. To complete an on-line application visit www.usajobs.gov or call the TAP toll-free number, 1-888-912-1227, if they have questions about TAP membership. The opening date for submitting applications is March 9, 2015, and the deadline for submitting applications is April 19, 2015. Interviews may be held. The Department of the Treasury will review the recommended candidates and make final selections. New TAP members will serve a three-year term starting in December 2015. (Note: highly-ranked applicants not selected as members may be placed on a roster of alternates who will be eligible to fill future vacancies that may occur on the Panel.)

Questions regarding the selection of TAP members may be directed to Lisa Billups, Taxpayer Advocacy Panel, Internal Revenue Service, 1111 Constitution Avenue NW., TA:TAP Room 1509, Washington, DC 20224, or 214-413-6523 (not a toll-free call).

Dated: March 3, 2015.
Otis Simpson,
Acting Director, Taxpayer Advocacy Panel.

[FR Doc. 2015-05360 Filed 3-6-15; 8:45 am]

BILLING CODE 4830-01-P